DEPARTMENT OF COMMERCE

National Oceanic and Atmospheric Administration

[RTID 0648-XB362]

Endangered and Threatened Species; Take of Anadromous Fish

AGENCY: National Marine Fisheries Service (NMFS), National Oceanic and Atmospheric Administration (NOAA), Department of Commerce.

ACTION: Notice; availability of a draft environmental assessment and proposed evaluation.

SUMMARY: Notice is hereby given that NMFS has received five plans for hatchery programs rearing and releasing Chinook salmon, coho salmon, and sockeye salmon in the Lake Washington basin. The plans describe hatchery programs operated by the Muckleshoot Indian Tribe and Washington Department of Fish and Wildlife (WDFW). This document serves to notify the public of the availability and opportunity to comment on a draft Environmental Assessment and Proposed Evaluation and Determination document on the proposed hatchery plans.

DATES: Comments must be received at the appropriate address (see ADDRESSES) no later than 5:00 p.m. Pacific time on September 27, 2021. Comments received after this date may not be considered.

ADDRESSES: Comments may be submitted by email. The mailbox address for providing email comments is: Hatcheries.Public.Comment@noaa.gov. Include in the subject line of the email comment the following identifier: Comments on Lake Washington hatchery programs. The documents available for public comment can be found at: https://www.fisheries.noaa.gov/action/five-hatchery-programs-lake-washington-basin.

FOR FURTHER INFORMATION CONTACT: Chanté Davis at (503) 231-2307 or by email at chante.davis@noaa.gov.

SUPPLEMENTARY INFORMATION:

Endangered Species Act (ESA) Listed Species Covered in This Notice

• Chinook salmon (Oncorhynchus tshawytscha): Threatened, naturally and artificially propagated;

• Steelhead (O. mykiss): Threatened, naturally and artificially propagated;

Background

The term “take” is defined under the ESA to mean harass, harm, pursue, hunt, shoot, wound, kill, trap, capture, or collect, or to attempt to engage in any such conduct. The ESA prohibits the take of endangered salmonids and, pursuant to ESA section 4(d), ESA regulations can be extended to prohibit the take of threatened salmonids. However, NMFS may make exceptions to the take prohibitions for hatchery programs that are approved by NMFS under the limits on the prohibitions outlined in 50 CFR 223.203(b). The Muckleshoot Indian Tribe and WDFW have submitted hatchery plans to NMFS pursuant to the ESA 4(d) rule for salmon and steelhead. The hatchery programs are intended to contribute to the survival and recovery of Puget Sound Chinook Salmon, provide information on exploitation rates, and support returns of coho salmon, Chinook salmon, and sockeye salmon to the Lake Washington basin.

Authority

16 U.S.C. 1531 et seq.; 16 U.S.C. 742a et seq.

Dated: August 23, 2021.
Angela Somma,
Chief, Endangered Species Conservation Division, Office of Protected Resources, National Marine Fisheries Service.

[FR Doc. 2021-18440 Filed 8-26-21; 8:45 am]

BILLING CODE 3510-22-P